FEDERAL COMMUNICATIONS COMMISSION

47 CFR Part 73

[DA 02-2602; MB Docket No. 02-209, RM-10512; MB Docket No. 02-210, RM-10510; MB Docket No. 02-211, RM-10511]

Radio Broadcasting Services; Greenwood, MS; Hyannis, NE; and Wall, SD

AGENCY: Federal Communications Commission.

ACTION: Final rule.

SUMMARY: This document grants three proposals that allot new channels to Greenwood, Mississippi; Hyannis, Nebraska; and Wall, South Dakota. The Audio Division, at the request of David P. Garland, allots Channel 277A at Greenwood, Mississippi, as the community's fourth local FM transmission service. See 67 FR 52924, August 14, 2002. Channel 277A can be allotted to Greenwood in compliance with the Commission's minimum distance separation requirements with a site restriction 10.1 kilometers (6.3 miles) east of the community to avoid a short-spacing to an application site of Station KZYQ, Channel 278C2, Lake Village, Arkansas. The coordinates for Channel 277A at Greenwood are 33-32-19 North Latitude and 90-04-27 West Longitude. Filing windows for Channel 277A at Greenwood, Mississippi; Channel 250C1 at Hyannis, Nebraska; and Channel 288C at Wall South Dakota, will not be opened at this time. Instead, the issue of opening a filing window for these channels will be addressed by the Commission in a subsequent order. See Supplementary Information, infra.

DATES: Effective December 2, 2002.

ADDRESSES: Federal Communications Commission, 445 Twelfth Street, SW., Washington, DC 20554. In addition to filing comments with the FCC, interested parties should serve the petitioner, his counsel, or consultant, as follows: David P. Garland, 1110 Hackney Street, Houston, Texas, 77023; John M. Pelkey, Garvey, Schubert & Barer, 5th Floor, 1000 Potomac Street, NW., Washington, DC 20007 (Counsel for Grant County Broadcasters and Wall Radio Broadcasters).

FOR FURTHER INFORMATION CONTACT: Rolanda F. Smith, Media Bureau, (202) 418-2180.

SUPPLEMENTARY INFORMATION: This is a synopsis of the Commission's Report and Order, MB Docket Nos. 02-209, 02-210, 02-211, adopted October 9, 2002, and released October 18, 2002. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

The Audio Division, at the request of Grant County Broadcasters, allots Channel 250C1 at Hyannis, Nebraska, as the community's first local FM transmission service. See 67 FR 52924, August 14, 2002. Channel 250C1 can be allotted to Hyannis in compliance with the Commission's minimum distance separation requirements at city reference coordinates. The coordinates for Channel 250C1 at Hyannis are 42-00-02 North Latitude and 101-45-41 West Longitude.

The Audio Division, at the request of Wall Radio Broadcasters, allots Channel 288C at Wall, South Dakota, as the community's first local FM transmission service. See 67 FR 52924, August 14, 2002. Channel 288C can be allotted to Wall in compliance with the Commission's minimum distance separation requirements at city reference coordinates. The coordinates for Channel 288C at Wall are 43-59-47 North Latitude and 102-13-07 West Longitude.

Provisions of the Regulatory Flexibility Act of l980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Mississippi, is amended by adding Channel 277A at Greenwood.

3. Section 73.202(b), the Table of FM Allotments under Nebraska, is amended by adding Hyannis, Channel 250C1.

4. Section 73.202(b), the Table of FM Allotments under South Dakota, is amended by adding Wall, Channel 288C.

Federal Communications Commission.
John A. Karousos,
Assistant Chief, Audio Division, Media Bureau.

[FR Doc. 02-27691 Filed 10-30-02; 8:45 am]

BILLING CODE 6712-01-P